DEPARTMENT OF LABOR

Employment and Training Administration

[TA-W-63,459]

Wolverine World Wide, Inc., Formerly Known as Chaco, Inc., Paonia, CO; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on June 18, 2008, applicable to workers of Chaco, Inc., Paonia, Colorado. The Department's notice of determination was published in the Federal Register on July 14, 2008 (73 FR 40388).

At the request of a Chaco, Inc. official, the Department reviewed the certification for workers of the subject firm. The workers produced headwater sandals.

New information shows that in January 2009, Wolverine World Wide, Inc. purchased Chaco, Inc. and that some of the workers wages are being reported under the State of Colorado Unemployment Insurance tax accounts for Wolverine World Wide, Inc.

Accordingly, the Department is amending this certification to properly reflect this matter.

The intent of the Department's certification is to include all workers of Wolverine World Wide, Inc., formerly known as Chaco, Inc., who were adversely affected by increased imports of articles like or directly competitive with headwater sandals produced by the subject firm.

The amended notice applicable to TA-W-63,459 is hereby issued as follows:

All workers of Wolverine World Wide, Inc., formerly known as Chaco, Inc., Paonia, Colorado, who became totally or partially separated from employment on or after May 31, 2007, through June 18, 2010, are eligible to apply for adjustment assistance under Section 223 of the Trade Act of 1974, and are also eligible to apply for alternative trade adjustment assistance under Section 246 of the Trade Act of 1974.

Signed at Washington, DC, this 4th day of February 2009.
Elliott S. Kushner,
Certifying Officer, Division of Trade Adjustment Assistance.

[FR Doc. E9-3727 Filed 2-20-09; 8:45 am]

BILLING CODE 4510-FN-P